U.S. ELECTION ASSISTANCE COMMISSION

Sunshine Act Notice

ACTION: Notice of Public Meeting.

Date and Time: Tuesday, August 5, 2008, 12 Noon-3 p.m.

Place: U.S. Election Assistance Commission, 1225 New York Ave., NW., Suite 150, Washington, DC 20005, (Metro Stop: Metro Center).

Agenda: Commissioners will hold a workshop discussion on Preparing for Election Day 2008 and Statewide Voter Registration Databases. Commissioners will receive a briefing regarding the Research Department Work Plan. The Commission will consider other administrative matters.

This meeting will be open to the public.

PERSON TO CONTACT FOR INFORMATION: Bryan Whitener, Telephone: (202) 566-3100.

Thomas R. Wilkey,
Executive Director, U.S. Election Assistance Commission.

[FR Doc. 08-1449 Filed 7-16-08; 1:33 pm]

BILLING CODE 6820-KF-P